DEPARTMENT OF HEALTH AND HUMAN SERVICES

National Institutes of Health

Prospective Grant of Exclusive License: P2X7: Receptor Antagonists; Correction

A notice published in the August 29, 2002 Federal Register—announcing the prospective grant of an exclusive license for the use of P2X7 receptor antagonists (67 FR 55415)—incorrectly listed the receipt date for comments/license applications as “October 28, 2002” under the DATES section. This notice serves to correct the date to reflect a 90-day review period rather than a 60-day review period. To allow interested parties adequate time to respond, NIH is publishing this notice to amend the DATES: section to read: “Only written comments and/or applications for a license which are received by the NIH Office of Technology Transfer on or before December 12, 2002, will be considered.”

Dated: September 3, 2002.
Jack Spiegel,
Director, Division of Technology Development and Transfer, Office of Technology Transfer.

[FR Doc. 02-23333 Filed 9-12-02; 8:45 am]

BILLING CODE 4140-01-P